DEPARTMENT OF ENERGY

Federal Energy Regulatory Commission

[Docket No. CP08-82-000]

Trunkline Gas Company, LLC; Notice of Request Under Blanket Authorization

March 5, 2008.

Take notice that on February 28, 2008, Trunkline Gas Company, LLC (Trunkline), 5444 Westheimer Road, Houston, Texas 77056-5306, filed in Docket No. CP08-82-000, a prior notice request pursuant to sections 157.205 and 157.208 of the Federal Energy Regulatory Commission's regulations under the Natural Gas Act for authorization to increase the certificated Maximum Allowable Operating Pressure (MAOP) for the 15A-Lateral Lines, and the corresponding Meters & Regulators (M&R), originating and terminating in Bee County, Texas, and to thereafter operate these 15A Laterals up to and including the higher MAOP, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Trunkline proposes to uprate the MAOP of Lateral Line 15A-100 from the current MAOP of 814 psig to the requested MAOP of 1,313 psig; uprate Lateral Line 15A-200 from the current MAOP of 730 psig to the requested MAOP of 1,313 psig; and uprate Lateral Line 15A-300 from the current MAOP of 750 psig to the requested MAOP of 1,313 psig. Trunkline states that in conjunction with the requested MAOP increase on the 15A laterals, Trunkline is also requesting the Commission's authorization to uprate the MAOP of the corresponding M&R sites to 1,032 psig. Trunkline asserts that it is not requesting authorization for construction of new facilities. Trunkline avers that the uprating of the MAOP of the laterals will improve system reliability, reduce operating costs, and reduce the constraint on the deliverability of local natural gas supplies to the Trunkline system.

Any questions regarding the application should be directed to Stephen T. Veatch, Regulatory Affairs, Trunkline Gas Company, LLC, 5444 Westheimer Road, Houston, Texas 77056-5306, call (713) 989-2024, fax (713) 989-1158, or e-mail stephen.veatch@sug.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E8-4848 Filed 3-11-08; 8:45 am]

BILLING CODE 6717-01-P